DEPARTMENT OF COMMERCE

International Trade Administration

[A-588-874]

Certain Hot-Rolled Steel Flat Products From Japan: Notice of Final Results of Antidumping Duty Changed Circumstances Review

AGENCY: Enforcement and Compliance, International Trade Administration, Department of Commerce.

SUMMARY: On July 19, 2019, the Department of Commerce (Commerce) published its notice of initiation and preliminary results of a changed-circumstances review (CCR) of the antidumping duty (AD) order on certain hot-rolled steel flat products (hot-rolled steel) from Japan. In that notice, Commerce preliminarily determined that (1) Nippon Steel Corporation (NSC) is the successor-in-interest to Nippon Steel & Sumitomo Metal Corporation (NSSMC); (2) Nippon Steel Nisshin Co., Ltd. (Nippon Nisshin) is the successor in interest to Nisshin Steel Co., Ltd. (Nisshin Steel); and (3) Nippon Steel Trading Corporation (NSTC) is the successor in interest to Nippon Steel & Sumikin Bussan Corporation (NSSBC). Additionally, Commerce preliminarily determined that NSC, Nippon Nisshin, and NSTC should be treated as a single entity, and should receive the same AD cash deposit rate with respect to the subject merchandise as NSSMC, the predecessor company. No interested party submitted comments regarding the initiation and preliminary results. For these final results, Commerce continues to find that NSC is the successor-in-interest to NSSMC.

DATES: Applicable September 5, 2019.

FOR FURTHER INFORMATION CONTACT: Leo Ayala or Jun Jack Zhao, AD/CVD Operations, Office VII, Enforcement and Compliance, International Trade Administration, U.S. Department of Commerce, 1401 Constitution Avenue NW, Washington, DC 20230; telephone: (202) 482-3945 or (202) 482-1396, respectively.

SUPPLEMENTARY INFORMATION:

Background

On July 19, 2019, Commerce published its notice of initiation and preliminary results of this CCR of the AD order on hot-rolled steel from Japan,¹ preliminarily determining that (1) NSC is the successor-in-interest to NSSMC; (2) Nippon Nisshin is the successor in interest to Nisshin Steel; and (3) NSTC is the successor in interest to NSSBC.² Additionally, because Commerce had previously determined that NSSMC, Nisshin Steel, and NSSBC are affiliated companies and should be treated as a single entity, Commerce preliminarily determined that NSC, including Nippon Nisshin and NSTC, should receive the same AD cash deposit rate (i.e., 4.99 percent) with respect to the subject merchandise as NSSMC, its predecessor company.³ In the Initiation and Preliminary Results, Commerce provided all interested parties with an opportunity to comment and to request a public hearing regarding the preliminary findings. Commerce received no comments regarding the preliminary findings and no requests for a public hearing from interested parties within the time period set forth in the Initiation and Preliminary Results.

¹ See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016) (Order).

² See Notice of Initiation and Preliminary Results of Antidumping Duty Changed Circumstances Review: Certain Hot-Rolled Steel Flat Products from Japan, 84 FR 34865 (July 19, 2019) (Initiation and Preliminary Results).

³ Id.

Scope of the Order

The products covered by this order are hot-rolled steel flat products from Japan. For a full description of the scope of the order, see the “Scope of the Order” at the Appendix to this notice.

Final Results of CCR

For the reasons stated in the Initiation and Preliminary Results, and because we received no comments from interested parties to the contrary, Commerce continues to find that NSC, Nippon Nisshin, and NSTC are affiliated companies that should be treated as a single entity that is the successor-in-interest to NSSMC. As a result of this determination, we find that NSC, Nippon Nisshin, and NSTC should receive the AD cash deposit rate previously assigned to NSSMC under the Order.⁴ Consequently, Commerce will instruct U.S. Customs and Border Protection to suspend liquidation of all shipments of subject merchandise produced or exported by NSC, Nippon Nisshin, and NSTC and entered, or withdrawn from warehouse, for consumption on or after the publication date of this notice in the Federal Register at a cash deposit rate of 4.99 percent, which is the current AD cash deposit rate for NSSMC.⁵ This cash deposit requirement shall remain in effect until further notice.

⁴ See Order.

⁵ NSSMC received a cash deposit rate of 4.99 percent in the amended final determination of the investigation of hot-rolled steel products from Japan. See Order, 81 FR at 67965.

Notification to Interested Parties

Commerce is issuing and publishing these final results and notice in accordance with sections 751(b)(1) and (4) and 777(i) of the Tariff Act of 1930, as amended, and sections 19 CFR 351.216 and 351.221(c)(3)(i).

Dated: August 28, 2019.
Jeffrey I. Kessler,
Assistant Secretary for Enforcement and Compliance.

Appendix

Scope of the Order

The products covered by the scope are certain hot-rolled, flat-rolled steel products, with or without patterns in relief, and whether or not annealed, painted, varnished, or coated with plastics or other non-metallic substances. The products covered do not include those that are clad, plated, or coated with metal. The products covered include coils that have a width or other lateral measurement (“width”) of 12.7 mm or greater, regardless of thickness, and regardless of form of coil (e.g., in successively superimposed layers, spirally oscillating, etc.). The products covered also include products not in coils (e.g., in straight lengths) of a thickness of less than 4.75 mm and a width that is 12.7 mm or greater and that measures at least 10 times the thickness. The products described above may be rectangular, square, circular, or other shape and include products of either rectangular or non-rectangular cross-section where such cross-section is achieved subsequent to the rolling process, i.e., products which have been “worked after rolling” (e.g., products which have been beveled or rounded at the edges). For purposes of the width and thickness requirements referenced above:

(1) Where the nominal and actual measurements vary, a product is within the scope if application of either the nominal or actual measurement would place it within the scope based on the definitions set forth above unless the resulting measurement makes the product covered by the existing antidumping ¹ or countervailing duty ² orders on Certain Cut-To-Length Carbon-Quality Steel Plate Products From the Republic of Korea (A-580-836; C-580-837), and

¹ See Notice of Amendment of Final Determinations of Sales at Less Than Fair Value and Antidumping Duty Orders: Certain Cut-To-Length Carbon-Quality Steel Plate Products from France, India, Indonesia, Italy, Japan and the Republic of Korea, 65 FR 6585 (February 10, 2000).

² See Notice of Amended Final Determinations: Certain Cut-to-Length Carbon-Quality Steel Plate from India and the Republic of Korea; and Notice of Countervailing Duty Orders: Certain Cut-To-Length Carbon-Quality Steel Plate from France, India, Indonesia, Italy, and the Republic of Korea, 65 FR 6587 (February 10, 2000).

(2) where the width and thickness vary for a specific product (e.g., the thickness of certain products with non-rectangular cross-section, the width of certain products with non-rectangular shape, etc.), the measurement at its greatest width or thickness applies.

Steel products included in the scope are products in which: (1) Iron predominates, by weight, over each of the other contained elements; (2) the carbon content is 2 percent or less, by weight; and (3) none of the elements listed below exceeds the quantity, by weight, respectively indicated:

• 2.50 percent of manganese, or

• 3.30 percent of silicon, or

• 1.50 percent of copper, or

• 1.50 percent of aluminum, or

• 1.25 percent of chromium, or

• 0.30 percent of cobalt, or

• 0.40 percent of lead, or

• 2.00 percent of nickel, or

• 0.30 percent of tungsten, or

• 0.80 percent of molybdenum, or

• 0.10 percent of niobium, or

• 0.30 percent of vanadium, or

• 0.30 percent of zirconium.

Unless specifically excluded, products are included in this scope regardless of levels of boron and titanium.

For example, specifically included in this scope are vacuum degassed, fully stabilized (commonly referred to as interstitial-free (IF)) steels, high strength low alloy (HSLA) steels, the substrate for motor lamination steels, Advanced High Strength Steels (AHSS), and Ultra High Strength Steels (UHSS). IF steels are recognized as low carbon steels with micro-alloying levels of elements such as titanium and/or niobium added to stabilize carbon and nitrogen elements. HSLA steels are recognized as steels with micro-alloying levels of elements such as chromium, copper, niobium, titanium, vanadium, and molybdenum. The substrate for motor lamination steels contains micro-alloying levels of elements such as silicon and aluminum. AHSS and UHSS are considered high tensile strength and high elongation steels, although AHSS and UHSS are covered whether or not they are high tensile strength or high elongation steels.

Subject merchandise includes hot-rolled steel that has been further processed in a third country, including but not limited to pickling, oiling, levelling, annealing, tempering, temper rolling, skin passing, painting, varnishing, trimming, cutting, punching, and/or slitting, or any other processing that would not otherwise remove the merchandise from the scope if performed in the country of manufacture of the hot-rolled steel.

All products that meet the written physical description, and in which the chemistry quantities do not exceed any one of the noted element levels listed above, are within the scope unless specifically excluded. The following products are outside of and/or specifically excluded from the scope:

• Universal mill plates (i.e., hot-rolled, flat-rolled products not in coils that have been rolled on four faces or in a closed box pass, of a width exceeding 150 mm but not exceeding 1250 mm, of a thickness not less than 4.0 mm, and without patterns in relief);

• Products that have been cold-rolled (cold-reduced) after hot-rolling; ³

³ For purposes of this scope exclusion, rolling operations such as a skin pass, levelling, temper rolling or other minor rolling operations after the hot-rolling process for purposes of surface finish, flatness, shape control, or gauge control do not constitute cold-rolling sufficient to meet this exclusion.

• Ball bearing steels; ⁴

⁴ Ball bearing steels are defined as steels which contain, in addition to iron, each of the following elements by weight in the amount specified: (i) Not less than 0.95 nor more than 1.13 percent of carbon; (ii) not less than 0.22 nor more than 0.48 percent of manganese; (iii) none, or not more than 0.03 percent of sulfur; (iv) none, or not more than 0.03 percent of phosphorus; (v) not less than 0.18 nor more than 0.37 percent of silicon; (vi) not less than 1.25 nor more than 1.65 percent of chromium; (vii) none, or not more than 0.28 percent of nickel; (viii) none, or not more than 0.38 percent of copper; and (ix) none, or not more than 0.09 percent of molybdenum.

• Tool steels; ⁵ and

⁵ Tool steels are defined as steels which contain the following combinations of elements in the quantity by weight respectively indicated: (i) More than 1.2 percent carbon and more than 10.5 percent chromium; or (ii) not less than 0.3 percent carbon and 1.25 percent or more but less than 10.5 percent chromium; or (iii) not less than 0.85 percent carbon and 1 percent to 1.8 percent, inclusive, manganese; or (iv) 0.9 percent to 1.2 percent, inclusive, chromium and 0.9 percent to 1.4 percent, inclusive, molybdenum; or (v) not less than 0.5 percent carbon and not less than 3.5 percent molybdenum; or (vi) not less than 0.5 percent carbon and not less than 5.5 percent tungsten.

• Silico-manganese steels; ⁶

⁶ Silico-manganese steel is defined as steels containing by weight: (i) Not more than 0.7 percent of carbon; (ii) 0.5 percent or more but not more than 1.9 percent of manganese, and (iii) 0.6 percent or more but not more than 2.3 percent of silicon.

The products subject to the scope are currently classified in the Harmonized Tariff Schedule of the United States (HTSUS) under item numbers: 7208.10.1500, 7208.10.3000, 7208.10.6000, 7208.25.3000, 7208.25.6000, 7208.26.0030, 7208.26.0060, 7208.27.0030, 7208.27.0060, 7208.36.0030, 7208.36.0060, 7208.37.0030, 7208.37.0060, 7208.38.0015, 7208.38.0030, 7208.38.0090, 7208.39.0015, 7208.39.0030, 7208.39.0090, 7208.40.6030, 7208.40.6060, 7208.53.0000, 7208.54.0000, 7208.90.0000, 7210.70.3000, 7211.14.0030, 7211.14.0090, 7211.19.1500, 7211.19.2000, 7211.19.3000, 7211.19.4500, 7211.19.6000, 7211.19.7530, 7211.19.7560, 7211.19.7590, 7225.11.0000, 7225.19.0000, 7225.30.3050, 7225.30.7000, 7225.40.7000, 7225.99.0090, 7226.11.1000, 7226.11.9030, 7226.11.9060, 7226.19.1000, 7226.19.9000, 7226.91.5000, 7226.91.7000, and 7226.91.8000. The products subject to the scope may also enter under the following HTSUS numbers: 7210.90.9000, 7211.90.0000, 7212.40.1000, 7212.40.5000, 7212.50.0000, 7214.91.0015, 7214.91.0060, 7214.91.0090, 7214.99.0060, 7214.99.0075, 7214.99.0090, 7215.90.5000, 7226.99.0180, and 7228.60.6000.

The HTSUS subheadings above are provided for convenience and U.S. Customs and Border Protection (CBP) purposes only. The written description of the scope is dispositive.

[FR Doc. 2019-19195 Filed 9-4-19; 8:45 am]

BILLING CODE 3510-DS-P